DEPARTMENT OF LABOR

Employment and Training Administration

[TA-W-52,454]

Pillowtex Corporation, Scottsboro, AL; Notice of Termination of Investigation

Pursuant to section 221 of the Trade Act of 1974, as amended, an investigation was initiated on August 4, 2003, in response to a petition filed by the Union of Needletrades, Industrial and Textile Employees (UNITE) on behalf of workers at Pillowtex Corporation, Scottsboro, Alabama.

The Union has requested that the investigation be terminated. Consequently, further investigation in this case would serve no purpose, and the investigation has been terminated.

Signed at Washington, DC, this 8th day of August, 2003.
Elliott S. Kushner,
Certifying Officer, Division of Trade Adjustment Assistance.

[FR Doc. 03-21015 Filed 8-15-03; 8:45 am]

BILLING CODE 4510-30-P